DEPARTMENT OF ENERGY

Federal Energy Regulatory Commission

[Project No. 13884-001]

Pennamaquan Tidal Power LLC; Notice of Initial Study Plan Meetings and Revised Process Plan

On June 5, 2014, Commission staff issued a letter to Pennamaquan Tidal Power LLC (Pennamaquan Tidal) stating that Pennamaquan Tidal's proposed study plan for the Pennamaquan Tidal Power Plant Project (P-13884) filed on December 12, 2013, meets the requirements of section 5.11 of the Commission's regulations and that the Integrated Licensing Process (ILP) can resume. According to section 5.11(e) of the Commission's regulations, the next step in the ILP is the initial study plan meeting. In its June 5, 2014, letter, Commission staff indicated that the initial study plan meeting must be held within 75 days of, but no sooner than 60 days from, June 5, 2014. Accordingly, Pennamaquan Tidal has scheduled the meetings listed below:

Meetings in Bangor, ME

Dates and Times: August 6 and 7, 2014. 8:00 a.m. to 5:00 p.m.

Location: Maine Department of Environmental Protection, Eastern Maine Regional Office, 106 Hogan Road, Bangor, Maine 04401.

Contact: Ramez Attiya, Pennamaquan Tidal, (281) 467-0846.

Meeting in Pembroke, ME

Date and Time: August 8, 2014. 12:00 p.m. to 2:00 p.m.

Location: Pembroke Town Office, 48 Old County Road, Pembroke, ME 04666.

Contact: Ramez Attiya, Pennamaquan Tidal, (281) 467-0846.

A revised process plan that includes new dates for completing the ILP is provided below:

Responsible party | Pre-filing milestone | Date ¹ | FERC regulation
Pennamaquan | Issue Public Notice for NOI/PAD | 7/19/12 | 5.3(d)(2)
Pennamaquan | File NOI/PAD with FERC | 7/19/12 | 5.5, 5.6
FERC | Initiate Tribal Consultation | 8/18/12 | 5.7
FERC | Issue Notice of Commencement of Proceeding; Scoping Document 1 (SD1) | 9/14/12 | 5.8
FERC | Project Environmental Site Review and Scoping Meetings | 10/25/12 10/26/12 | 5.8(b)(viii)
All stakeholders | PAD/SD1 Comments and Study Requests Due | 12/4/12 | 5.9
FERC | Issue Scoping Document 2 (if needed) | 1/18/13 | 5.1
Pennamaquan | File Proposed Study Plan (PSP) | 12/12/13 | 5.11(a)
All stakeholders | Proposed Study Plan Meeting (scheduled for 8/6/14 to 8/8/14) | Between 8/4/14 and 8/19/14 ² | 5.11(e)
All stakeholders | Proposed Study Plan Comments Due | 10/18/14 | 5.12
Pennamaquan | File Revised Study Plan | 11/17/14 | 5.13(a)
All stakeholders | Revised Study Plan Comments Due | 12/2/14 | 5.13(b)
FERC | Director's Study Plan Determination | 12/17/14 | 5.13(c)
Mandatory Conditioning Agencies | Any Study Disputes Due | 1/6/15 | 5.14(a)
Dispute Panel | Third Dispute Panel Member Selected | 1/21/15 | 5.14(d)(3)
Dispute Panel | Dispute Resolution Panel Convenes | 1/26/15 | 5.14(d)
Pennamaquan | Applicant Comments on Study Disputes Due | 1/31/15 | 5.14(j)
Dispute Panel | Dispute Resolution Panel Technical Conference | 2/5/15 | 5.14(j)
Dispute Panel | Dispute Resolution Panel Findings Issued | 2/25/15 | 5.14(k)
FERC | Director's Study Dispute Determination | 3/17/15 | 5.14(l)
Pennamaquan | First Study Season | Spring/Summer 2015 | 5.15(a)
Pennamaquan | Initial Study Report | 12/17/15 | 5.15(c)(1)
All stakeholders | Initial Study Report Meeting | 1/1/16 | 5.15(c)(2)
Pennamaquan | Initial Study Report Meeting Summary | 1/16/16 | 5.15(c)(3)
All stakeholders | Any Disputes/Requests to Amend Study Plan Due | 2/15/16 | 5.15(c)(4)
All stakeholders | Responses to Disputes/Amendment Requests Due | 3/16/16 | 5.15(c)(5)
FERC | Director's Determination on Disputes/Amendments | 4/15/16 | 5.15(c)(6)
Second study season if necessary. Schedule would be adjusted accordingly.
Pennamaquan | File Preliminary Licensing Proposal (PLP) | 12/14/16 ³ | 5.16(a)
All stakeholders | PLP Comments Due | 3/14/17 | 5.16(e)
¹ If a due date falls on a weekend or holiday, the due date is the following business day. Dates prior to August 2014 are the dates when the events occurred, rather than due dates.
² Commission staff issued a letter on June 5, 2014, requiring the proposed study plan meeting to be held between August 4, 2014, and August 19, 2014. Subsequent deadlines in the process plan were calculated from the deadline of August 19, 2014.
³ The date for filing of the PLP is a staff estimate.

Dated: July 1, 2014.
Kimberly D. Bose,
Secretary.

[FR Doc. 2014-15997 Filed 7-8-14; 8:45 am]

BILLING CODE 6717-01-P